DEPARTMENT OF ENERGY

Federal Energy Regulatory Commission

[Docket Nos. RM01-12-000, RT01-2-000, RT01-10-000, RT01-15-000, ER02-323-000, RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT01-101-000, EC01-146-000, ER01-3000-000, RT02-1-000, EL02-9000, EC01-156-000, ER01-3154-000, and EL01-80-000]

Electricity Market Design and Structure (RTO Cost Benefit Analysis Report); Notice of Additional Material Relating to Economic Assessment of RTO Policy Report

March 22, 2002.

During the regional teleconferences held on March 13 through March 19, 2002 to discuss the “Economic Assessment of RTO Policy” Report, released on February 27, 2002, participants requested additional factual information relating to the report. The following additional information in response to these requests is being provided: the Request for Proposal (RFP) issued for the project; additional details about the Northeast region; and a detailed discussion of the assumptions in the report.

This additional information is available on the FERC Web site, http://www.ferc.gov. It also will be placed in each of the dockets listed in the caption, and is available through the FERC Records and Information Management System.

For further information, please contact either:

William Meroney, 202-208-1069, William.meroney@ferc.gov.

Charles Whitmore, 202-208-1256, Charles.whitmore@ferc.gov.

Federal Energy Regulatory Commission, 888 First Street, NE, Washington DC 20426.

Linwood A. Watson, Jr.,
Deputy Secretary.

[FR Doc. 02-7455 Filed 3-27-02; 8:45 am]

BILLING CODE 6717-01-P